COMMITTEE FOR PURCHASE FROM PEOPLE WHO ARE BLIND OR SEVERELY DISABLED

Procurement List Additions and Deletion

AGENCY: Committee for Purchase From People Who Are Blind or Severely Disabled.

ACTION: Additions to and deletion from the Procurement List.

SUMMARY: This action adds products and services to the Procurement List that will be furnished by nonprofit agencies employing persons who are blind or have other severe disabilities and deletes a service from the Procurement List previously furnished by such agency.

DATES: Effective Date: 8/16/2010.

ADDRESSES: Committee for Purchase From People Who Are Blind or Severely Disabled, Jefferson Plaza 2, Suite 10800, 1421 Jefferson Davis Highway, Arlington, Virginia 22202-3259.

FOR FURTHER INFORMATION CONTACT: Barry S. Lineback, Telephone: (703) 603-7740, Fax: (703) 603-0655, or e-mail CMTEFedReg@AbilityOne.gov.

SUPPLEMENTARY INFORMATION:

Additions

On 5/21/2010 (75 FR 28589-28590) and 5/28/2010 (75 FR 29994-29995), the Committee for Purchase From People Who Are Blind or Severely Disabled published notices of proposed additions to the Procurement List.

After consideration of the material presented to it concerning capability of qualified nonprofit agencies to provide the products and services and impact of the additions on the current or most recent contractors, the Committee has determined that the products and services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the products and services to the Government.

2. The action will result in authorizing small entities to furnish the products and services to the Government.

3. There are no known regulatory alternatives which would accomplish the objectives of the Javits-Wagner-O'Day Act (41 U.S.C. 46-48c) in connection with the products and services proposed for addition to the Procurement List.

End of Certification

Accordingly, the following products and services are added to the Procurement List:

Products

NSN: 8415-01-580-0091—Cap, Patrol, Multi-Cam

NSN: 8415-01-580-0247—Cap, Patrol, Multi-Cam

NSN: 8415-01-580-0241—Cap, Patrol, Multi-Cam

NSN: 8415-01-580-0135—Cap, Patrol, Multi-Cam

NSN: 8415-01-580-0133—Cap, Patrol, Multi-Cam

NSN: 8415-01-580-0132—Cap, Patrol, Multi-Cam

NSN: 8415-01-580-0130—Cap, Patrol, Multi-Cam

NSN: 8415-01-580-0129—Cap, Patrol, Multi-Cam

NSN: 8415-01-580-0128—Cap, Patrol, Multi-Cam

NSN: 8415-01-580-0127—Cap, Patrol, Multi-Cam

NSN: 8415-01-580-0126—Cap, Patrol, Multi-Cam

NSN: 8415-01-580-0113—Cap, Patrol, Multi-Cam

NSN: 8415-01-580-0109—Cap, Patrol, Multi-Cam

NSN: 8415-01-580-0097—Cap, Patrol, Multi-Cam

NPA: Southeastern Kentucky Rehabilitation Industries, Inc., Corbin, KY

Contracting Activity: Dept of the Army, XR W2DF RDECOM ACQ CTR Natick, Natick, MA

Coverage: C-List for 100% of the requirement of the U.S. Army, as aggregated by the Department of the Army Research, Development, and Engineering Command, Natick, MA

NSN: 7510-01-411-7000—Portfolio, Clear Front Report Cover

NPA: Susquehanna Association for the Blind and Visually Impaired, Lancaster, PA

Contracting Activity: Federal Acquisition Service, GSA/FSS OFC SUP CTR—Paper Products, New York, NY

Coverage: A-List for the Total Government Requirement as aggregated by General Services Administration.

NSN: MR 824—Mandolin Slicer

NPA: Industries for the Blind, Inc., West Allis, WI

Contracting Activity: Military Resale, Defense Commissary Agency, Fort Lee, VA

Coverage: C-List for the requirement of military commissaries and exchanges as aggregated by the Defense Commissary Agency.

NSN: MR 823—Food Chopper

NPA: Industries for the Blind, Inc., West Allis, WI

Contracting Activity: Military Resale, Defense Commissary Agency, Fort Lee, VA

Coverage: C-List for the requirement of military commissaries and exchanges as aggregated by the Defense Commissary Agency.

NSN: 9390-01-078-8660—Tape, Reflective

NPA: Bestwork Industries for the Blind, Inc., Runnemede, NJ

Contracting Activity: Defense Logistics Agency, Defense Supply Center Philadelphia, Philadelphia, PA

Coverage: C-List for 100% of the requirement of the Department of Defense, as aggregated by the Defense Logistics Agency, Defense Supply Center Philadelphia.

Services

Service Type/Locations: Janitorial and Grounds Maintenance, Customs and Border Patrol (CBP): Three Points Transport Base, 16434 W. Ajo Way, Robles Junction, AZ; 41455 S. Sasabe Highway, Sasabe, AZ

Vehicle Maintenance Facility, 9480 W. Adams Road, Eloy, AZ

Papago Farms, FR 21, Sells, AZ

Sonoita Checkpoint, Highway 83 MP 40.8, Sonoita, AZ

Willcox Station Facilities, 200 W. Rex Allen Jr. Road, Willcox, AZ

Willcox Checkpoint, Highway 80 MP 313, Willcox, AZ

Willcox Highway 191 Checkpoint, Highway 191, MP 41, Willcox, AZ

Equestrian Training, 3293 E. Kimsey Road, Willcox, AZ

Intelligence and Operations Coordination Center, 2430 S. Swan Road, Tucson, AZ

NPA: J.P. Industries, Inc., Tucson, AZ

Contracting Activity: Dept of Homeland Security, Bureau of Customs and Border Protection, Office of Procurement, Washington, DC

Service Type/Locations: Laundry Service, Naval Hospital, 6000 West Hwy 98, Pensacola, FL

NPA: Wiregrass Rehabilitation Center, Inc., Dothan, AL

Contracting Activity: Dept of the Navy, FISC Jacksonville, Jacksonville, FL

Service Type/Locations: Laundry Service, Naval Hospital System, 2800 Child Street, Jacksonville, FL

NPA: GINFL Services, Inc., Jacksonville, FL

Contracting Activity: Dept of the Navy, FISC Jacksonville, Jacksonville, FL

Service Type/Locations: Food Service Attendants, Combat Readiness Training Center (CRTC) Dining Facility, 1401 Robert B. Miller Jr. Drive, Garden City, GA

NPA: Trace, Inc., Boise, ID

Contracting Activity: Dept of the Air Force, FA6643 HQ AFRES LGC, Robins AFB, GA

Deletion

On 5/28/2010 (75 FR 29994-29995), the Committee for Purchase From People Who Are Blind or Severely Disabled published notice of a proposed deletion from the Procurement List.

After consideration of the relevant matter presented, the Committee has determined that the service listed below is no longer suitable for procurement by the Federal Government under 41 U.S.C. 46-48c and 41 CFR 51-2.4.

Regulatory Flexibility Act Certification

I certify that the following action will not have a significant impact on a substantial number of small entities. The major factors considered for this certification were:

1. The action will not result in additional reporting, recordkeeping or other compliance requirements for small entities.

2. The action may result in authorizing small entities to provide a service to the Government.

3. There are no known regulatory alternatives which would accomplish the objectives of the Javits-Wagner-O'Day Act (41 U.S.C. 46-48c) in connection with a service deleted from the Procurement List.

End of Certification

Accordingly, the following service is deleted from the Procurement List:

Service

Service Type/Locations: Food Service Attendant, Brunswick Naval Air Station: Building 201, New Brunswick, ME

NPA: Pathways, Inc., Auburn, ME

Contracting Activity: Dept of the Navy, U.S. Fleet Forces Command, Norfolk, VA

Barry S. Lineback,
Director, Business Operations.

[FR Doc. 2010-17412 Filed 7-15-10; 8:45 am]

BILLING CODE 6353-01-P